DEPARTMENT OF JUSTICE

Drug Enforcement Administration

[Docket No. DEA-392]

Manufacturer of Controlled Substances Registration: Noramco, Inc.

ACTION: Notice of registration.

SUMMARY: Noramco, Inc. applied to be registered as a manufacturer of certain basic classes of controlled substances. The DEA grants Noramco, Inc. registration as a manufacturer of those controlled substances.

SUPPLEMENTARY INFORMATION:

By notice dated January 14, 2014, and published in the Federal Register on January 22, 2014, 79 FR 3627, Noramco, Inc., 500 Swedes Landing Road, Wilmington, Delaware 19801-4417, applied to be registered as a manufacturer of certain basic classes of controlled substances. No comments or objections were submitted to this notice. The Drug Enforcement Administration (DEA) has considered the factors in 21 U.S.C. 823(a) and determined that the registration of Noramco, Inc. to manufacture the basic classes of controlled substances is consistent with the public interest and with United States obligations under international treaties, conventions, or protocols in effect on May 1, 1971. The DEA investigated the company's maintenance of effective controls against diversion by inspecting and testing the company's physical security systems, verifying the company's compliance with state and local laws, and reviewing the company's background and history.

Therefore, pursuant to 21 U.S.C. 823(a), and in accordance with 21 CFR 1301.33, the above-named company is granted registration as a bulk manufacturer of the basic classes of controlled substances listed:

Controlled substance | Schedule
Codeine-N-oxide (9053) | I
I="01">Dihydromorphine (9145) | I
Morphine-N-oxide (9307) | I
Amphetamine (1100) | II
Methylphenidate (1724) | II
Phenylacetone (8501) | II
Codeine (9050) | II
Dihydrocodeine (9120) | II
Oxycodone (9143) | II
Hydromorphone (9150) | II
Hydrocodone (9193) | II
Morphine (9300) | II
Oripavine (9330) | II
Thebaine (9333) | II
Opium extracts (9610) | II
Opium fluid extract (9620) | II
Opium tincture (9630) | II
Opium, powdered (9639) | II
Opium, granulated (9640) | II
Oxymorphone (9652) | II
Noroxymorphone (9668) | II
Tapentadol (9780) | II

The company plans to manufacture the listed controlled substances in bulk for distribution to its customers.

Dated: January 9, 2015.
Joseph T. Rannazzisi,
Deputy Assistant Administrator.

[FR Doc. 2015-01303 Filed 1-23-15; 8:45 am]

BILLING CODE P